DEPARTMENT OF COMMERCE

National Oceanic and Atmospheric Administration

[Docket No. 051019272-5272-01; I.D. 092905B]

Open Rivers Initiative Barrier Removal Project Grants

AGENCY: National Marine Fisheries Service (NMFS), National Oceanic and Atmospheric Administration (NOAA), Commerce.

ACTION: Notice of availability of financial assistance.

SUMMARY: The NOAA Open Rivers Initiative (ORI) provides funding to catalyze the implementation of locally-driven barrier removal projects that remove dams and other barriers, in order to benefit living marine resources, particularly diadromous fish. Projects funded through ORI grants will have strong on-the-ground habitat restoration components that foster economic, educational, and social benefits for citizens and their communities in addition to long-term ecological habitat improvements for NOAA trust resources. The role of NOAA in this initiative is to provide funding and technical assistance for barrier removal projects. Proposals selected for funding through this solicitation will be implemented through a cooperative agreement. Funding of up to $6,000,000 is expected to be available for the ORI Project Grants competition in FY 2007. The NOAA Restoration Center (RC) within the Office of Habitat Conservation will administer this grants initiative, and anticipates that typical awards will range from $50,000 to $250,000 per project. Although a select few may exceed this range, project proposals requesting over $1,000,000 will not be accepted or reviewed. To help expedite the implementation of on-the-ground components of barrier removal projects in 2007, up to $1,000,000 may be made available in 2006 from a related NOAA grants program to support feasibility, engineering, and/or design elements of a small number of projects where the same application also seeks funding for on-the-ground removal activities.

DATES: Applications must be postmarked or submitted no later than 11:59 PM EST on January 13, 2006.

ADDRESSES: Applications should be submitted via www.grants.gov. If applicants do not have access to the internet, applications must be mailed to: NOAA Fisheries, Office of Habitat Conservation, Restoration Division (F/HC3), 1315 East West Highway, Silver Spring, MD 20910-3282. ATTN: Open Rivers Initiative Project Applications. No facsimile or electronic mail applications will be accepted. Electronic Access to the full funding announcement for this program is available via the Grants.gov Web site: http://www.grants.gov. The announcement will also be available at the NOAA Web site http://www.ofa.noaa.gov/%7Eamd/SOLINDEX.HTML or by contacting the program official identified below. All application requirements contained in the full funding announcement must be adhered to in submitted proposals.

FOR FURTHER INFORMATION CONTACT: Robin Bruckner, (301) 713-0174, or by e-mail at Robin.Bruckner@noaa.gov.

SUPPLEMENTARY INFORMATION:

Summary

The principal objectives of the ORI are to provide Federal financial and technical assistance to locally-driven removals of dams and other barriers to enhance watershed health, to foster sustainable fish populations, and to improve community vitality and economic growth. This will help restore living marine and coastal resources and their habitats and promote stewardship and a conservation ethic for NOAA trust resources, particularly diadromous fish. The ORI focus is on implementing projects that will directly benefit diadromous species such as salmon, sturgeon, shad, river herring, striped bass, and American eel.

Successful applications will be those that:

• Demonstrate collaboration among entities such as public and nonprofit organizations, citizen and watershed groups, industry, corporations and businesses, youth conservation corps, students, landowners, academia, and local, state, tribal governments and Federal agencies to cooperatively implement barrier removal projects;

• Document community benefits related to: increased business opportunities, removal of potential liability, reduced flood impacts, and/or improved opportunities for recreation, park use, or other tangible community benefits; and

• Are able to: achieve a net gain in diadromous fish-accessible stream miles, increase the number of barrier removals in a particular watershed, document education and outreach or volunteer hours involved, and maximize project partnerships.

Project partners may contribute funding, land, technical assistance, workforce support or other in-kind services; promote grass-roots participation in the improvement of locally important living marine resources; and engender local stewardship and monitoring activities to sustain and evaluate the performance of the barrier removal. Previous locally-driven barrier removal projects supported by NOAA have been successful because they had significant local backing, depended upon citizens' hands-on involvement, and drew community support through strategic outreach and education.

Electronic Access

Information on barrier removal proposals funded to date under the NOAA Community-based Restoration Program can be found on the World Wide Web at: http://www.nmfs.noaa.gov/habitat/restoration. As has been the case since October 1, 2004, applicants can access the full funding announcement and download and submit electronic grant applications for NOAA Financial Assistance at the grants.gov web site: http://www.grants.gov. Applicants responding to the ORI are strongly encouraged to submit applications through the grants.gov web site (see ADDRESSESS).

Initiative Priorities

Initiative priorities are focused on the removal of fish passage barriers within historic or present diadromous fish habitat to achieve a net gain in diadromous fish-accessible stream miles and fish population recovery. Priority consideration will be given to those proposals that: include fish population health benefits; are expected to have environmentally-compatible economic benefits resulting from the barrier removal; will have synergistic results due to related fish passage or restoration activities upstream or downstream; will improve watershed health with measurable outcomes; and will result in community revitalization and stewardship. Priority will also be given to those proposals that maximize the number of stream miles for which access is restored, and/or maximize the potential for the recovery of fish populations. Removal of complete barriers to fish passage will be given priority consideration, as will proposals for which the bulk of funding will support on-the-ground implementation activities. Proposals that address partial barriers will also be considered for funding, but may receive lower priority. In limited circumstances, the initiative will consider remedies such as fish ladders that are dependent on proper stream flows, operation, and maintenance to ensure free passage. Proposals that request funds for feasibility, engineering and/or design in addition to construction elements may be considered to receive partial funding in 2006 on a limited basis so that construction elements can move forward in a timely fashion with funding made available in 2007. This initiative does not fund feasibility studies, removal, partial removal, or replacement of barriers owned by the Federal government or dams licensed by the Federal Energy Regulatory Commission (FERC). Such proposals will be disqualified.

Restoration of access may include, but is not limited to: complete dam removal; notching or breaching of dams; removal of barriers such as culverts that completely or partially block fish passage and replacement with bridges, fish passable culverts or tide gates; removal of temporary or seasonal dams that block fish migration; or removal of other barriers to diadromous fish passage. Restoration activities may include upstream and/or downstream passage of diadromous fish.

The ORI will emphasize the selection of barrier removal projects that demonstrate a coordinated effort to maximize quality diadromous fish habitat within a watershed. Proposals should assess the state of fish barriers/fish access in the watershed to receive greater consideration than those that demonstrate little knowledge of other barriers in the system.

Projects that restore habitats found to be socio-economically important within their region with regard to such issues as commercial (e.g., fisheries) and recreational use and/or aesthetic and stewardship values will be favored. This may include projects that result in beneficial uses of newly available land previously inundated by a reservoir. Projects that document community benefits related to increased business opportunities, removal of potential liability, and/or improved opportunities for recreation, park use, or other tangible community benefits will be given priority. However, this initiative does not fund urban redevelopment components.

While the focus of this initiative is to provide funding and technical expertise to support on-the-ground implementation of barrier removal projects that involve significant community support, NOAA recognizes that accomplishing barrier removal is a multi-faceted effort involving feasibility studies, project design, engineering services, permitting, construction, legal considerations, oversight, pre- and post-removal monitoring, and education and outreach. Applicants may therefore apply for funding to support a combination of these activities in addition to the barrier removal itself. NOAA anticipates that up to $1,000,000 may be made available from a related grants program to support the feasibility, engineering, and/or design elements of a proposal in 2006 so that the removal activities can proceed with additional funding awarded through ORI to successful applicants in 2007 using a multi-year award process. Although barrier removals themselves are often not suitable for volunteer involvement, projects should involve an outreach and/or volunteer component tied to the overall barrier removal goals and activities to receive greater consideration. Additionally, projects must have pre- and post-project monitoring components.

Implementation of on-the-ground barrier removal projects must have clearly identified goals (broad in scope) and specific, measurable objectives. Evaluating these objectives must involve monitoring during the project period of at least one structural and one functional parameter, as supported by Title I of the Estuaries and Clean Waters Act of 2000, to ensure a basic level of assessment of project success. Monitoring must be conducted in a timely fashion with a frequency and length of time appropriate for each parameter in the context of the project objectives and type. Examples of structural and functional monitoring parameters for barrier removal project types are available on the World Wide Web at http://www.nmfs.noaa.gov/habitat/restoration, and assistance in refining the objectives and/or selecting appropriate parameters is available from NOAA staff working with the ORI (see FOR FURTHER INFORMATION CONTACT).

NOAA will consider funding more than one project under a single award, however all projects should be sufficiently developed as per the guidelines and information requirements listed in this document for an application to be competitive, and all projects should be able to be completed within the award period specified below.

Funding Availability

This solicitation announces that funding of up to $6,000,000 is expected to be available for ORI Project Grants in FY 2007. NOAA anticipates that typical project awards will range from $50,000 to $250,000. Applications requesting less than $30,000 or more than $1,000,000 from ORI will not be accepted under this solicitation. To help expedite the implementation of on-the-ground components of barrier removal projects in 2007, up to $1,000,000 may be available in 2006 from a related NOAA grant program to support feasibility, engineering, and/or design elements of a small number of projects where the same application also seeks funding for on-the-ground removal activities. NOAA does not guarantee that sufficient funds will be available to make awards for all proposals. The number of awards to be made as a result of this solicitation will depend on the number of eligible applications received, the amount of funds requested for initiating barrier removal projects by the applicants, the merit and ranking of the proposals, and the amount of funds made available to the ORI by Congress.

NOAA anticipates that between 30 and 50 awards will be made as a result of this solicitation. The exact amount of funds that may be awarded will be determined in pre-award negotiations between the applicant and NOAA representatives. Publication of this document does not obligate NOAA to award any specific project or obligate all or any parts of any available funds.

Authority

The Secretary of Commerce is authorized under the Fish and Wildlife Coordination Act, 16 U.S.C. 661, as amended by the Reorganization Plan No. 4 of 1970, to provide grants or cooperative agreements for dam and barrier removal activities to restore fisheries habitat.

Catalogue of Federal Domestic Assistance (CFDA)

11.463, Habitat Conservation

Eligibility

Eligible applicants are institutions of higher education, other non-profits, industry and commercial (for profit) organizations, organizations under the jurisdiction of foreign governments, international organizations, and state, local and Indian tribal governments whose projects have the potential to benefit NOAA trust resources. Applications from Federal agencies or employees of Federal agencies will not be considered. Federal agencies are strongly encouraged to work with states, non-governmental organizations, national service clubs or youth corps organizations and others that are eligible to apply.

The Department of Commerce/National Oceanic and Atmospheric Administration (DOC/NOAA) is strongly committed to broadening the participation of historically black colleges and universities, Hispanic-serving institutions, tribal colleges and universities, and institutions that work in under served areas. The ORI encourages proposals from or involving any of the above institutions.

Cost Sharing or Matching Requirements

A major goal of the ORI will be to provide seed money for projects that leverage funds and other contributions from a broad public and private sector to implement locally important barrier removals to benefit living marine and coastal resources. To this end, applicants are encouraged to demonstrate a minimum 1:1 non-Federal match for ORI funds requested to conduct the proposed project. NOAA strongly encourages applicants to leverage as much investment as possible. Applicants with less than 1:1 match will not be disqualified, however, applicants should note that cost sharing is an element considered in Evaluation Criterion #4: “Project Costs.”

Match to NOAA funds can come from a variety of public and private sources and can include in-kind goods and services and volunteer labor. Federal funds are not considered matching funds. Applicants are permitted to combine contributions from additional non-Federal partners in order to meet the 1:1 match expected, as long as such contributions are not being used to match any other funds. Applicants are also permitted to apply federally negotiated indirect costs in excess of Federal share limits.

Applicants whose proposals are selected for funding will be bound by the percentage of cost sharing reflected in the award document signed by the NOAA Grants Officer. Successful applicants should be prepared to carefully document matching contributions, including the overall number of volunteers and in-kind participation hours devoted to individual barrier removal projects. Letters of commitment for any secured resources that will be used as match for an award under this solicitation should be submitted as an attachment to the application. Applicants should consider the timing of potential match and awards to reflect the fact that the majority of funds will not be available until fiscal year 2007. Match must be applied to the project during the award period.

Intergovernmental Review

Applications under this initiative are subject to the provisions of Executive Order 12372, “Intergovernmental Review of Federal Programs.” Applicants are required to complete item 16 on SF-424 regarding clearance by the State Single Point of Contact (SPOC) established as a result of the Executive Order. To find out about and comply with a State's process under Executive Order 12372, the names, addresses and phone numbers of participating SPOC's are available on the internet at: http://www.whitehouse.gov/omb/grants/spoc.html.

Evaluation and Selection

Reviewers will assign scores to proposals ranging from 0 to 100 points based on the following five standard NOAA evaluation criteria and respective weights specified below.

1. Importance and Applicability of Proposal (30 points)

This criterion ascertains whether there is intrinsic value in the proposed work and/or relevance to NOAA, Federal, regional, state or local activities.

2. Technical/Scientific Merit (30 points)

This criterion assesses whether the approach is technically sound and/or innovative, if the methods are appropriate, and whether there are clear project goals and objectives.

3. Overall Qualifications of Applicants (10 points)

This criterion ascertains whether the applicant possesses the necessary education, experience, demonstrated commitment, training, facilities, and administrative resources to accomplish the project.

4. Project Costs (15 points)

This criterion evaluates the project's budget to determine if it is realistic and commensurate with the project needs and time-frame.

5. Outreach, Education and Community Involvement (15 points)

NOAA assesses whether the project provides a focused and effective education and outreach strategy regarding NOAA's mission.

Applications will be screened by NOAA staff to determine if they are eligible, complete and in accordance with instructions detailed in the standard NOAA Grants Application Package. Applications that present narrative information in the same order as the evaluation criteria set out above are likely to be more competitive, as reviewers will be more easily able to identify information that directly translates to scoring. Eligible barrier removal proposals will undergo a technical review, ranking, and selection process. As appropriate during this process, the NOAA Restoration Center will solicit individual technical evaluations of each project proposed and may request evaluations from other NOAA offices, the Regional Fishery Management Councils, other Federal and state agencies, such as state coastal management agencies and state fish and wildlife agencies, and private and public sector barrier removal experts who have knowledge of a specific applicant or project. Proposals also will be reviewed by NOAA regional and headquarters staff to determine how well they meet the stated aims of the ORI, and how well the proposal meets the goals of the NOAA Office of Habitat Conservation (OHC) and the NOAA Habitat Program as these goals are incorporated into the evaluation criteria.

Applications for barrier removal projects will be evaluated by at least three individual technical reviewers, including those mentioned in the above paragraph, according to the criteria and weights listed in this solicitation and described in detail in the Federal Funding Opportunity. The reviewers will independently evaluate each application and provide a score. Composite project scores, a rank order of applications, and reviewer comments and will be presented to the Director of the NOAA Restoration Center (Director). The Director, in consultation with OHC staff, will select the proposals to be recommended to the Grants Management Division (GMD) for funding and will determine the amount of funds available for each approved proposal. The proposals shall be recommended in rank order unless the proposal is justified to be selected out of rank order based upon one or more of the following factors:

1. The availability of funding;

2. The balance/distribution of funds: (a) geographically, (b) by type of institutions, (c) by type of partners, (d) by research areas, and (e) by project types;

3. Duplication of other projects funded or considered for funding by NOAA and/or other Federal agencies;

4. Initiative priorities and policy factors as set out in the full funding opportunity available on grants.gov;

5. The applicant's prior award performance;

6. Partnerships and/or participation of targeted groups; and

7. Adequacy of information necessary for NOAA staff to make a NEPA determination and draft necessary documentation before funding recommendations are acted upon by GMD.

Hence, awards may not necessarily be made to the highest scoring proposals. Unsuccessful applicants will be notified that their proposal was not among those recommended for funding. Unsuccessful applications submitted in hard copy will be kept on file until the close of the following fiscal year then destroyed.

Successful applicants generally will be identified approximately 90-120 days after the close of this solicitation on January 13, 2006. The earliest date for receipt of most awards will be approximately 60 days after the 2007 fiscal year appropriation is enacted, when all NOAA/applicant final negotiations and NEPA analysis and documentation supporting cooperative agreement activities have been completed. Applicants should consider this selection and processing time in developing requested start dates for proposed barrier removal activities; NOAA suggests reasonable start dates of winter/spring 2007.

National Environmental Policy Act (NEPA)

NOAA must analyze the potential environmental impacts, as required by the National Environmental Policy Act (NEPA), for applicant projects or proposals which are seeking NOAA federal funding opportunities. Detailed information on NOAA compliance with NEPA can be found at the following NOAA NEPA website: http://www.nepa.noaa.gov/, including our NOAA Administrative Order 216-6 for NEPA, http://www.nepa.noaa.gov/NAO216_6_TOC.pdf, and the Council on Environmental Quality implementation regulations, http://ceq.eh.doe.gov/nepa/regs/ceq/toc_ceq.htm).

Consequently, as part of an applicant's package, and under their description of their program activities, applicants are required to provide detailed information on the activities to be conducted, locations, sites, species and habitat to be affected, possible construction activities, and any environmental concerns that may exist (e.g., the use and disposal of hazardous or toxic chemicals, introduction of non-indigenous species, impacts to endangered and threatened species, aquaculture projects, and impacts to coral reef systems).

In addition to providing specific information that will serve as the basis for any required impact analyses, applicants may also be requested to assist NOAA in drafting of an environmental assessment, if NOAA determines an assessment is required. Applicants will also be required to cooperate with NOAA in identifying and implementing feasible measures to reduce or avoid any identified adverse environmental impacts of their proposal. The failure to do so shall be grounds for the denial of an application.

Pre-Award Notification Requirements for Grants and Cooperative Agreements

The Department of Commerce Pre-Award Notification Requirements for Grants and Cooperative Agreements contained in the Federal Register notice of December 30, 2004 (69 FR 78389) are applicable to this solicitation.

Limitation of Liability

In no event will NOAA or the Department of Commerce be responsible for proposal preparation costs if this initiative fails to receive funding or is cancelled because of other agency priorities. Publication of this announcement does not oblige NOAA to award any specific project or to obligate any available funds. Recipients and sub-recipients are subject to all Federal laws, agency policies, regulations and procedures applicable to Federal financial assistance awards.

Paperwork Reduction Act

This notification involves collection-of-information requirements subject to the Paperwork Reduction Act. The use of Standard Forms 424, 424A, 424B, and SF-LLL and CD-346 has been approved by the Office of Management and Budget (OMB) under OMB control numbers 0348-0043, 0348-0044, 0348-0040, 0348-0046 and 0605-0001 respectively. Notwithstanding any other provision of law, no person is required to respond to, nor shall any person be subject to a penalty for failure to comply with, a collection of information subject to the requirements of the PRA unless that collection of information displays a currently valid OMB control number.

Executive Order 12866

It has been determined that this notice is not significant for purposes of Executive Order 12866.

Executive Order 13132 (Federalism)

It has been determined that this notice does not contain policies with Federalism implications as that term is defined in Executive Order 13132.

Administrative Procedure Act/Regulatory Flexibility Act

Prior notice and an opportunity for public comment are not required by the Administrative Procedure Act or any other law for rules concerning public property, loans, grants, benefits, and contracts (5 U.S.C. 553(a)(2)). Because notice and opportunity for comment are not required pursuant to 5 U.S.C. 553 or any other law, the analytical requirements of the Regulatory Flexibility Act (5 U.S.C. 601 et seq.) are inapplicable. Therefore, a regulatory flexibility analysis has not been prepared.

Dated: October 26, 2005.
William T. Hogarth,
Assistant Administrator for Fisheries, National Marine Fisheries Service.

[FR Doc. 05-21617 Filed 10-26-05; 1:26 pm]

BILLING CODE 3510-22-S